NATIONAL ARCHIVES AND RECORDS ADMINISTRATION

Nixon Presidential Historical Materials; Opening of Materials

AGENCY: National Archives and Records Administration.

ACTION: Notice of Opening of Additional Materials.

SUMMARY: This notice announces the opening of additional Nixon Presidential Historical Materials by the Richard Nixon Presidential Library and Museum, a division of the National Archives and Records Administration. Notice is hereby given that, in accordance with section 104 of Title I of the Presidential Recordings and Materials Preservation Act (PRMPA, 44 U.S.C. 2111 note) and 1275.42(b) of the PRMPA Regulations implementing the Act (36 CFR part 1275), the Agency has identified, inventoried, and prepared for public access additional textual materials and sound recordings from among the Nixon Presidential Historical Materials.

DATES: The Richard Nixon Presidential Library and Museum intends to make the materials described in this notice available to the public on Wednesday, July 20, 2011, at the Richard Nixon Library and Museum's primary location in Yorba Linda, CA, beginning at 9:30 a.m. (P.D.T.). In accordance with 36 CFR 1275.44, any person who believes it necessary to file a claim of legal right or privilege concerning access to these materials must notify the Archivist of the United States in writing of the claimed right, privilege, or defense within 30 days of the publication of this notice.

ADDRESSES: The Richard Nixon Presidential Library and Museum, a division of the National Archives, is located at 18001 Yorba Linda Blvd., Yorba Linda, CA. Researchers must have a NARA researcher card, which they may obtain when they arrive at the facility. Petitions asserting a legal or constitutional right or privilege that would prevent or limit public access to the materials must be sent to the Archivist of the United States, National Archives at College Park, 8601 Adelphi Rd., College Park, Maryland 20740-6001.

FOR FURTHER INFORMATION CONTACT: Timothy Naftali, Director, Richard Nixon Presidential Library and Museum, 714-983-9120.

SUPPLEMENTARY INFORMATION: The following materials will be made available in accordance with this notice:

1. Previously restricted textual materials. Volume: 3.5 cubic feet. A number of textual materials previously withheld from public access have been reviewed for release and/or declassified under the systematic declassification review provisions and under the mandatory review provisions of Executive Order 13526, the Freedom of Information Act (5 U.S.C. 552), or in accordance with 36 CFR 1275.56 (Public Access regulations). The materials are from integral file segments for the National Security Council (NSC Files and NSC Institutional Files); the Henry A. Kissinger (HAK) Office Files; and White House Special Files, Staff Member and Office Files.

2. White House Central Files, Staff Member and Office Files. Volume: 260 cubic feet. The White House Central Files Unit was a permanent organization within the White House complex that maintained a central filing and retrieval system for the records of the President and his staff. The Staff Member and Office Files consist of materials that were transferred to the Central Files but were not incorporated into the Subject Files. The following file groups will be made available: David R. Gergen, William E. Timmons.

3. White House Central Files, Staff Member and Office Files, Miscellaneous Series: Submission of Presidential Conversations to the Committee on the Judiciary of the House of Representatives by President Richard Nixon, April 30, 1974. Volume: 1 cubic foot.

4. White House Central Files, Name Files: Volume: 1.5 cubic feet. The Name Files were used for routine materials filed alphabetically by the name of the correspondent; copies of documents in the Name Files were usually filed by subject in the Subject Files. The following Name Files folders will be made available: Baranowski, Frank; Black, Shirley Temple; Eastland, James O. (Senator); Graham, Billy; Konop; Litw; Booth, S.; Pulask; Rebozo, C. G.; Robert Allen; Richer, Evangeline; Rodriguez, Cleto L.; Williams, Paul.

5. Office of Presidential Papers and Archives. Exit Interviews. Volume: <0.25 cubic feet. Exit interviews of Benjamin L. Stein, Gordon C. Strachan.

6. White House Special Files, Staff Member and Office Files. Volume: Approximately 60 minutes of audio recordings from the following collections: President's Personal File (PPF), White House Special Files—Administrative Files, John D. Ehrlichman and H. R. Haldeman.

Dated: June 14, 2011.
David S. Ferriero,
Archivist of the United States.

[FR Doc. 2011-15390 Filed 6-17-11; 8:45 am]

BILLING CODE 7515-01-P